DEPARTMENT OF HEALTH AND HUMAN SERVICES

Centers for Disease Control and Prevention

[Program Announcement 02118]

Fellowship Training Programs in Vector-Borne Infectious Diseases; Notice of Availability of Funds; Correction

A notice announcing the availability of Fiscal Year 2002 funds to fund cooperative agreements for Fellowship Training Programs in Vector-Borne Infectious Diseases was published in the Federal Register on May 10, 2002, Vol 67, No. 91, pages 31813-31816. The notice is amended as follows: On page 31814, first column, Section C. Availability of Funds, Paragraph 1, should be corrected to read “It is expected that the awards will begin on or about August 30, 2002, and will be made for a 12-month budget period within a project period of up to five years.”

Dated: June 11, 2002.
Sandra R. Manning,
Director, Procurement and Grants Office, Centers for Disease Control and Prevention.

[FR Doc. 02-15153 Filed 6-14-02; 8:45 am]

BILLING CODE 4163-18-P